POSTAL SERVICE

Privacy Act of 1974; System of Records

AGENCY: Postal Service™.

ACTION: Notice of modification to existing system of records.

SUMMARY: The United States Postal Service® is proposing to modify a General Privacy Act System of Records. These updates are being made due to changes to a Web site developed for retired postal employees.

DATES: The revision will become effective without further notice on March 25, 2013, unless comments received on or before that date result in a contrary determination.

ADDRESSES: Comments may be mailed or delivered to the Records Office, United States Postal Service, 475 L'Enfant Plaza SW., Room 9431, Washington, DC 20260-2201. Copies of all written comments will be available at this address for public inspection and photocopying between 8 a.m. and 4 p.m., Monday through Friday.

FOR FURTHER INFORMATION CONTACT: Jane Eyre, Manager, Records Office, 202-268-2608.

SUPPLEMENTARY INFORMATION: This notice is in accordance with the Privacy Act requirement that agencies publish their amended systems of records in the Federal Register when there is a revision, change, or addition. The Postal Service™ has reviewed this system of records and has determined that this General Privacy Act System of Records should be revised to modify Categories of Records in the System, Purpose(s), and Retention and Disposal.

I. Background

The U.S. Postal Service has a Web site called keepingposted.org available for retired USPS employees who want to stay connected with postal news, events and people. This site also provides links to other retirement resources and services.

II. Rationale for Changes to USPS Privacy Act Systems of Records

The Postal Service wants to contact postal retirees to make them aware they can find on the Keeping Posted Web site up-to-date news and information about the organization, messages to retirees from the Postmaster General, as well as continuing federal retiree benefit information.

III. Description of Changes to Systems of Records

The Postal Service is modifying one system of records listed below. Pursuant to 5 U.S.C. 552a(e)(11), interested persons are invited to submit written data, views, or arguments on this proposal. A report of the proposed modifications has been sent to Congress and to the Office of Management and Budget for their evaluation. The Postal Service does not expect this amended notice to have any adverse effect on individual privacy rights. The affected system is as follows:

USPS 100.000

SYSTEM NAME:

General Personnel Records

Accordingly, for the reasons stated, the Postal Service proposes changes in the existing system of records as follows:

USPS 100.000

SYSTEM NAME:

General Personnel Records

CATEGORIES OF RECORDS IN THE SYSTEM

* * * * *

[CHANGE TO READ]

1. Employee, former employee, and family member information: Name(s), Social Security Number(s), Employee Identification Number, date(s) of birth, place(s) of birth, marital status, postal assignment information, work contact information, home address(es) and phone number(s), finance number(s), duty location, and pay location.

* * * * *

[ADD NEW TEXT]

9. Email Addresses: personal email address(es) for retired employees are retained in a separate database and file from other current and former employee information.

PURPOSE(S):

* * * * *

[ADD NEW TEXT]

6. To provide federal benefit information to retired employees.

* * * * *

RETENTION AND DISPOSAL:

* * * * *

[ADD NEW TEXT]

7. Records to provide federal benefit information to retired employees are retained 10 years. The record may be purged at the request of the retired employee.

Stanley F. Mires,
Attorney, Legal Policy & Legislative Advice.

[FR Doc. 2013-04053 Filed 2-21-13; 8:45 am]

BILLING CODE 7710-12-P